DEPARTMENT OF EDUCATION

Privacy Act of 1974; System of Records—Special Education—Individual Reporting on Regulatory Compliance Related to the Personnel Development Program's Service Obligation and the Government Performance and Results Act of 1993 (GPRA)

AGENCY: Office of Special Education and Rehabilitative Services, Department of Education.

ACTION: Notice of a new system of records.

SUMMARY: In accordance with the Privacy Act of 1974, as amended (Privacy Act), the Department of Education (Department) publishes this notice of a new system of records entitled “Special Education—Individual Reporting on Regulatory Compliance Related to the Personnel Development Program's Service Obligation and the Government Performance and Results Act of 1993 (GPRA)” (18-16-04).

In seeking to improve outcomes for infants, toddlers and children with disabilities, the Individuals with Disabilities Education Act (IDEA) is designed to ensure that States have personnel with the necessary skills and knowledge to service infants, toddlers, and children with disabilities. The Office of Special Education Programs' (OSEP) Personnel Development Program to Improve Services and Results for Children with Disabilities (Personnel Development Program), pursuant to section 662 of IDEA, provides grants to institutions of higher education (IHEs) and other eligible entities, in large part, to train personnel in the area of special education with the intent of improving both the quality and the supply of qualified special educators. Through this program, IHEs and other eligible entities provide scholarships to individuals who agree to perform a service obligation for a period of two years for every year for which assistance was received. Scholars who do not satisfy their service obligation or other applicable program requirements must repay all or a part of their scholarship in accordance with the regulations implementing section 662(h) of IDEA. The new system of records announced in this notice is needed to track scholars' enrollment, employment, and fulfillment of the terms of the service obligation.

DATES: The Department seeks comment on the new system of records described in this notice, in accordance with the requirements of the Privacy Act. We must receive your comments on the proposed routine uses for the system of records referenced in this notice on or before November 24, 2008.

The Department filed a report describing the new system of records covered by this notice with the Chair of the Senate Committee on Homeland Security and Governmental Affairs, the Chair of the House of Representatives Committee on Oversight and Government Reform, and the Administrator of the Office of Information and Regulatory Affairs, Office of Management and Budget (OMB) on October 21, 2008. This system of records will become effective at the later date of—(1) the expiration of the 40 day period for OMB review on December 1, 2008, unless OMB waives 10 days of the 40-day review period for compelling reasons shown by the Department or (2) November 24, 2008, unless the system of records needs to be changed as a result of public comment or OMB review.

ADDRESSES: Address all comments about the proposed routine uses to Associate Division Director, Elementary/Middle School Team, Research to Practice Division, Office of Special Education Programs, Office of Special Education and Rehabilitative Services, U.S. Department of Education, 550 12th Street, SW., Room 4154, Washington, DC 20202-2600. Telephone: (202) 245-7471. If you prefer to send comments through the Internet, use the following address: comments@ed.gov.

You must include the term “Special Education—Individual Reporting on Regulatory Compliance Related to the Personnel Development Program's Service Obligation and the Government Performance and Results Act of 1993 (GPRA)” in the subject line of the electronic message.

During and after the comment period, you may inspect all comments about this notice at the Department in Room 4154, 550 12th Street, SW., Washington, DC, between the hours of 8:00 a.m. and 4:30 p.m., Eastern Time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Associate Division Director, Elementary/Middle School Team, Research to Practice Division. Telephone: (202) 245-7471. If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Introduction

In 1997, Congress added a service obligation to the program (in section 673(h) of IDEA) due to the increasing number of individuals who receive scholarship assistance under IDEA and subsequently pursue career fields outside of special education. The 2004 amendments to IDEA, in section 662(h), shifted the burden of collection and verification of service obligation information from grantees to the Department.

This new system of records, which is designed to help the Department track scholars' enrollment, employment, and fulfillment of the terms of the service obligation required under 662(h) of IDEA, is authorized by—

a. For scholarships made from grants made after fiscal year (FY) 2005, 34 CFR 304.23 through 304.30, which implement section 662(h) of IDEA for those fiscal years;

b. For scholarships made from FY 2005 grants, the notice published in the Federal Register on March 25, 2005 (70 FR 15306), which implements section 662(h) of IDEA for that fiscal year;

c. For scholarships made from grants made prior to FY 2005, 34 CFR 304.23 through 304.30, as those regulations existed at that time, which implemented section 673(h) of the version of IDEA that was in effect prior to December 3, 2004; and

d. Section 4 of the Government Performance and Results Act of 1993 (GPRA), Public Law 103-62;

The regulatory provisions in 34 CFR 304.23 through 304.30, which implement section 662(h) of IDEA (and, if applicable, section 673(h) of the IDEA, as in effect after the 1997 amendments and before the 2004 amendments to IDEA), require that individuals who receive a scholarship through the Personnel Development Program funded under IDEA (scholars), subsequently perform a service obligation for a period of two years for every year for which assistance was received. Scholars who do not satisfy the requirements of the regulations implementing section 662(h) of IDEA must repay all or part of the cost of assistance, in accordance with regulations issued by the Secretary. These regulations implement requirements governing, among other things, the service obligation for scholars, reporting requirements by grantees, and repayment of scholarships by scholars and former scholars. In order for the Federal Government to ensure that the goals of the Personnel Development Program are achieved and compliance with the regulations implementing the program, certain data collection, recordkeeping, and documentation are necessary. In addition, GPRA requires Federal agencies to establish performance measures for all programs, and OSEP has established performance measures for the Personnel Development Program. A new system of records on scholars is necessary to allow the Department to perform the data collection, recordkeeping, and documentation activities for this program and to evaluate progress on the program's GPRA performance measures.

For scholars receiving funds from grants awarded prior to FY 2005, OSEP receives information about scholars from IHEs and other eligible entities when scholars have exited a training program supported with funds through the Personnel Development Program, or, in tracking the scholars' employment, the grantees determine that scholars are not fulfilling their service obligations. For scholars receiving funds from grants awarded after FY 2004, the Department has contracted with Optimal Solutions Group, LLC to develop and maintain a Web-based data collection system to collect data from grantees, scholars, and their employers. Optimal Solutions Group, LLC, in turn, has subcontracted with The Planet, which maintains the Web-based data collection system.

Records in this system of records may include contact information for the grantee; the grant identification number; the scholar's name, Social Security number, gender, ethnic origin, education history, address, telephone number, e-mail address, alternate contact information, and areas of training; the name and contact information of a person through whom the scholar can be contacted; the number of years the scholar needs to work to satisfy the service obligation; the total amount of scholarship assistance received; the time period during which the scholar must satisfy the service obligation; eligible employment to fulfill the service obligation; reasons for leaving the program before completion (if applicable); contact information for employers; and, as applicable, all other obligations of the scholar under the regulations implementing section 662(h) of IDEA. Scholars will be responsible for asking employers to verify the employment information provided by the scholars in the online database.

System of Records Requirements

The Privacy Act (5 U.S.C. 552a(e)(4)) requires the Department to publish in the Federal Register this notice of a new system of records maintained by the Department. The Department's regulations implementing the Privacy Act are contained in the Code of Federal Regulations (CFR) in part 5b of title 34.

The Privacy Act applies to information about an individual that is maintained in a system of records from which individually identifying information is retrieved by a unique identifier associated with each individual, such as a name or Social Security number. The information about each individual is called a “record,” and the system, whether manual or computer-based, is called a “system of records.”

The Privacy Act requires each agency to publish a system of records notice in the Federal Register and to submit, whenever the agency publishes a new system of records or makes a significant change to an established system of records, a report to the Administrator of the Office of Information and Regulatory Affairs, OMB. Each agency is also required to send copies of the report to the Chair of the Senate Committee on Homeland Security and Governmental Affairs and the Chair of the House of Representatives Committee on Oversight and Government Reform. These reports are intended to permit an evaluation of the probable effect of the proposal on the privacy rights of individuals.

Electronic Access to This Document

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 21, 2008.
Tracy R. Justesen,
Assistant Secretary for Special Education and Rehabilitative Services.

For the reasons discussed in the preamble, the Assistant Secretary for Special Education and Rehabilitative Services, U.S. Department of Education (Department), publishes a notice of a new system of records to read as follows:

SYSTEM NUMBER:

18-16-04

SYSTEM NAME:

Special Education—Individual Reporting on Regulatory Compliance Related to the Personnel Development Program's Service Obligation and the Government Performance and Results Act of 1993 (GPRA).

SECURITY CLASSIFICATION:

None.

SYSTEM LOCATION(S):

(1) Research to Practice Division, Office of Special Education Programs, Office of Special Education and Rehabilitative Services, U.S. Department of Education, 550 12th Street, SW., Washington, DC 20202-2600. (With regard to scholars who have received scholarships from grants awarded prior to FY 2005, if a grantee determines that a scholar will not fulfill the scholar's service obligation through service and will instead have to repay some or all of the scholarship the scholar received, the grantee must refer the scholar to the Department for repayment. This location keeps records on these scholars.)

(2) Optimal Solutions Group, LLC (Optimal), 8100 Professional Place, Suite 312, Hyattsville, MD 20785-2229. (This is the location of the Department's contractor where records are maintained on scholars who have received funds from grants awarded after FY 2004. The contractor maintains periodic back-ups of a Web-based data server that collects data on scholars from grantees, scholars and their employers.)

(3) The Planet, 1333 North Stemmons Freeway, Suite 100, Dallas, TX 75207-3723. (This is the location of the Department's subcontractor, where records are also maintained on scholars who have received funds from grants awarded after FY 2004. The subcontractor maintains a Web-based data server and backs it up on a secondary hard drive.)

CATEGORIES OF INDIVIDUALS COVERED BY THE SYSTEM:

This system contains records on individuals who are recipients of scholarships (scholars) from grants awarded to institutions of higher education (IHEs) and other eligible entities by the Office of Special Education Programs' (OSEP) Personnel Development Program to Improve Services and Results for Children with Disabilities Program (Personnel Development Program).

CATEGORIES OF RECORDS IN THE SYSTEM:

This system consists of records about scholars who receive scholarships under the Personnel Development Program. Information in this system will include contact information for the grantee; the grant identification number; each scholar's name, social security number, address, telephone number, e-mail address, and alternate contact information; name and contact information of a person through whom the scholar can be contacted; the number of years the scholar needs to work to satisfy the service obligation; the total amount of scholarship assistance received; the time period during which the scholar must satisfy the service obligation; eligible employment to fulfill the service obligation; contact information for employers; and, as applicable, all other obligations of the scholar under the regulations. Employers will be asked to verify the employment information provided by the scholar. In addition, scholars will be asked questions about topics related to the Personnel Development Program performance measures, e.g., specific areas of training, highly qualified teacher status, reasons for leaving the program before completion, gender, ethnic origin, and education history.

This system of records does not cover records maintained in the Department's system of records notice entitled “Education's Central Automated Processing System (EDCAPS)” (18-03-02) as part of the Department's receivables management function.

AUTHORITY FOR MAINTENANCE 0F THE SYSTEM:

This system of records is authorized by the Individuals with Disabilities Education Act (IDEA), 20 U.S.C. 1400 et seq., and specifically—

a. For scholarships made from grants made after FY 2005, 34 CFR 304.23 through 304.30, which implement section 662(h) of IDEA for those fiscal years;

b. For scholarships made from FY 2005 grants, the notice published in the Federal Register on March 25, 2005 (70 FR 15306), which implements section 662(h) of IDEA for that fiscal year; and

c. For scholarships made from grants made prior to FY 2005, 34 CFR 304.23 through 304.30 as those regulations existed at that time, which implement section 673(h) of the version of IDEA that was in effect prior to December 3, 2004.

This system of records is also authorized by section 4 of the Government Performance and Results Act of 1993 (GPRA), Pub. L. 103-62.

PURPOSE(S):

The information in this system is used for the following purposes: to track scholars' enrollment, employment, and fulfillment of the terms of the service obligation and to evaluate progress on the performance measures for the Personnel Development Program.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis, or, if the Department has complied with the computer matching requirements of the Computer Matching and Privacy Protection Act of 1988, as amended, under a computer matching agreement.

(1) Program Purposes. The Department may disclose records from this system of records:

(a) To the scholars' employers to verify the eligible employment of scholars who were supported by a scholarship under the Personnel Development Program and who are fulfilling their service obligations.

(b) To the Personnel Development Program grantees to inform them of their scholars' employment outcomes.

(2) Disclosure in the Course of Responding to Breach of Data. The Department may disclose records to appropriate agencies, entities, and persons when (a) The Department suspects or has confirmed that the security or confidentiality of information in the system of records has been compromised; (b) the Department has determined that as a result of the suspected or confirmed compromise there is a risk of harm to economic or property interests, identity theft or fraud, or harm to the security or integrity of this system or other systems or programs (whether maintained by the Department or by another agency or entity) that rely upon the compromised information; and (c) the disclosure made to such agencies, entities, and persons is reasonably necessary to assist in connection with the Department's efforts to respond to the suspected or confirmed compromise and prevent, minimize, or remedy such harm.

(3) Contract Disclosure. The Department may disclose records to employees of an entity with whom the Department contracts when disclosure is necessary for an employee of the entity to perform a function pursuant to the Department's contract with the entity. Before entering into such a contract, the Department shall require the contractor to maintain Privacy Act safeguards as required under 5 U.S.C. 552a(m) with respect to the records in the system.

(4) Disclosure for Use by Other Law Enforcement Agencies. The Department may disclose information to any Federal, State, local, or foreign agency, or other public authority responsible for enforcing, investigating, or prosecuting violations of administrative, civil, or criminal law or regulation if that information is relevant to any enforcement, regulatory, investigative, or prosecutorial responsibility within the receiving entity's jurisdiction.

(5) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(6) Litigation and Alternative Dispute Resolution (ADR) Disclosure.

(a) Introduction. In the event that one of the parties listed below is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to DOJ. If the Department determines that disclosure of certain records to DOJ is relevant and necessary to the litigation or ADR, the Department may disclose those records as a routine use to DOJ.

(c) Adjudicative Disclosure. If the Department determines that it is relevant and necessary to the litigation or ADR to disclose certain records to an adjudicative body before which the Department is authorized to appear, to an individual, or to an entity designated by the Department or otherwise empowered to resolve or mediate disputes, the Department may disclose those records as a routine use to the adjudicative body, individual, or entity.

(d) Disclosure to Parties, Counsel, Representatives, or Witnesses. If the Department determines that disclosure of certain records to a party, counsel, representative, or witness is relevant and necessary to the litigation or ADR, the Department may disclose those records as a routine use to the party, counsel, representative, or witness.

(7) Freedom of Information Act (FOIA) and Privacy Act Advice Disclosure. The Department may disclose records to DOJ or Office of Management and Budget (OMB) if the Department concludes that disclosure is desirable or necessary in determining whether particular records are required to be disclosed under the FOIA or the Privacy Act.

(8) Disclosure to DOJ. The Department may disclose records to DOJ to the extent necessary for obtaining DOJ advice on any matter relevant to an audit, inspection, or other inquiry related to the program covered by this system.

(9) Congressional Member Disclosure. The Department may disclose the records of an individual to a member of Congress or the member's staff when necessary to respond to an inquiry from the member or the member's staff made at the written request of that individual. The member's right to the information is no greater than the right of the individual who requested the inquiry.

(10) Research Disclosure. The Department may disclose records under routine use to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

DISCLOSURE TO CONSUMER REPORTING AGENCIES:

The Department may disclose to a consumer reporting agency information regarding a claim by the Department that the head of the Department has determined to be valid and overdue. Such information is limited to—(1) The name, address, taxpayer identification number, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined in 31 U.S.C. 3701(a)(3).

POLICIES AND PRACTICES FOR STORING, RETRIEVING, ACCESSING, RETAINING, AND DISPOSING OF RECORDS IN THE SYSTEM:

STORAGE:

The Department maintains hard copy records of information about scholars who received funds from grants awarded before FY 2005 in locked file cabinets that are located within locked offices protected by a security system. The Department maintains electronic records with information about scholars who received funds from grants awarded before FY 2005 on its secure server.

Optimal, the Department's contractor, maintains any hard copy records of information about scholars who received funds from grants awarded in FY 2005 and thereafter in locked file cabinets that are located within locked offices protected by a security system. Optimal also maintains electronic records of information about scholars who received funds from grants awarded in FY 2005 and thereafter, because the subcontractor's server is periodically backed up on Optimal's secure hard drive.

The Department's subcontractor, The Planet, maintains data about scholars who received funds from grants awarded in FY 2005 and thereafter for this system on its secure server with an automated backup hard drive that will support the system in the event of a crash.

RETRIEVABILITY:

Records in this system are indexed by a unique number assigned by the Department to each individual.

SAFEGUARDS:

Access to the records is limited to authorized personnel only. All physical access to the Department's site, and to the sites of the Department's contractor and subcontractor, where this system of records is maintained, is controlled and monitored by security personnel.

The computer system employed by the Department offers a high degree of resistance to tampering and circumvention. This security system limits data access to Department and contract staff on a “need to know” basis, and controls individual users' ability to access and alter records within the system.

The contractor and subcontractor will establish similar sets of procedures at their sites to ensure confidentiality of data. Their systems are required to ensure that information identifying individuals is in files physically separated from other research data. The contractor and subcontractor will maintain security of the complete set of all master data files and documentation. Access to individually identifying data will be strictly controlled. At each site all hard copy data will be kept in locked file cabinets during nonworking hours, and work on hard copy data will take place in a single room, except for data entry. Physical security of electronic data will also be maintained. Security features that protect electronic project data include: Password-protected accounts that authorize users to use the contractor's and subcontractor's systems but to access only specific network directories and network software; user rights and directory and file attributes that limit those who can use particular directories and files and determine how they can use them; and additional security features that the network administrators will establish for projects as needed.

RETENTION AND DISPOSAL:

These records will be maintained and disposed of in accordance with the records retention and disposition authority approved by the National Archives and Records Administration (NARA). Until NARA approves a retention and disposition schedule for these records, the Department will not destroy or delete any records.

SYSTEM MANAGER AND ADDRESS:

Associate Division Director, Elementary/Middle School Team, Research to Practice Division, Office of Special Education Programs, Office of Special Education and Rehabilitative Services, U.S. Department of Education, 550 12th Street, SW., Room 4154, Washington, DC 20202-2600.

NOTIFICATION PROCEDURE:

If you wish to determine whether a record regarding you exists in the system of records, contact the system manager. Your request must meet the requirements of regulations in 34 CFR 5b.5, including proof of identity.

RECORD ACCESS PROCEDURE:

If you wish to gain access to your record in the system of records, contact the system manager at the address listed under SYSTEM MANAGER AND ADDRESS. Requests should contain your full name, address, and telephone number. Your request must meet the requirements of regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

For grants awarded prior to FY 2005, collection of information from IHEs and other eligible entities is limited to identifying information about scholars, their service obligation, and the amount of their scholarship. When IHEs and other eligible entities have determined that scholars will not fulfill their obligation through service and must instead repay some or all of the scholarship they received, the IHEs and other eligible entities are required to forward this information to OSEP, and OSEP forwards it to the Department's Accounts Receivable Group in the Office of the Chief Financial Officer (OCFO).

The information for grants awarded after FY 2004 will be collected from grantees, scholars, and scholars' employers primarily through a Web-based data collection system implemented by Optimal, a contractor of the Department, and The Planet, a subcontractor of the Department. Through this system, information related to tracking scholars' enrollment, employment, and fulfillment of the terms of the service obligation and to evaluating progress on the performance measures for the Personnel Development Program will be collected from grantees, scholars, and the scholars' employers. When the Department determines scholars will not fulfill their service obligation and must instead repay some or all of the scholarship they received, the Department will forward applicable information to the Department's Accounts Receivable Group in OCFO.

EXEMPTIONS CLAIMED FOR THE SYSTEM:

None.

[FR Doc. E8-25444 Filed 10-23-08; 8:45 am]

BILLING CODE 4000-01-P